DEPARTMENT OF ENERGY

Federal Energy Regulatory Commission

[Docket No. EL18-203-000]

Notice of Complaint; Owensboro Municipal Utilities v. Louisville Gas and Electric Company, Kentucky Utilities Company

Take notice that on September 21, 2018, pursuant to sections 206, 306, 309, and 316 ¹ of the Federal Power Act and Rule 206 of the Federal Energy Regulatory Commission's (Commission) Rules of Practice and Procedure,² Owensboro Municipal Utilities (Complainant) filed a formal complaint against Louisville Gas and Electric Company and Kentucky Utilities Company, (Respondents) alleging that, from February 1, 2018 forward, Respondents violated and continue to violate its joint obligation, under First Revised Rate Schedule No. 402 to reimburse Complainant for pancaked transmission service charges incurred to Drive-Out from the Midcontinent Independent System Operator, all as more fully explained in the complaint.

¹ 16 U.S.C. 825e, 824e, 825h, and 825o.

² 18 CFR 385.206.

The Complainants certify that copies of the Complaint were served on contacts for Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 11, 2018.

Dated: September 24, 2018.
Nathaniel J. Davis, Sr.,
Deputy Secretary.

[FR Doc. 2018-21129 Filed 9-27-18; 8:45 am]

BILLING CODE 6717-01-P